CHEMICAL SAFETY AND HAZARD INVESTIGATION BOARD

Sunshine Act Meeting

In connection with its investigation into an explosion and fire that occurred at the Bayer CropScience facility in Institute, West Virginia, on August 28, 2008, the U.S. Chemical Safety Board (CSB) announces that it will hold a public meeting on April 23, 2009, in Institute, West Virginia, to present preliminary findings from its investigation of the explosion that fatally injured two workers.

The meeting will begin at 6:30 p.m. at the West Virginia State University Wilson Building, Multipurpose Room, 103 University Union, Institute, WV 25112. The meeting is free and open to the public. Pre-registration is not required, but to assure adequate seating, attendees are encouraged to pre-register by e-mailing their names and affiliations to bayer@csb.gov by April 10.

At the meeting, the CSB investigative team will present its preliminary findings on the circumstances of the accident to the CSB Board and the public. The Board will ask questions of the team in front of the audience. Following the presentation of the CSB's preliminary findings, a panel of outside witnesses will be invited to speak on a number of issues related to the accident.

At the end of the panel discussion, comments from members of the public will be heard. The meeting will be videotaped, and an official transcript will be included in the investigative file.

All staff presentations are preliminary and are solely intended to allow the Board to consider the issues and factors involved in this case in a public forum. No factual analyses, conclusions, or findings of the staff should be considered final. Only after the Board has considered and approved the staff final report will there be an approved final record of this incident.

Christopher W. Warner,
General Counsel.

[FR Doc. E9-8034 Filed 4-3-09; 4:15 pm]

BILLING CODE